DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on December 2, 2002 from 10 a.m. until 5:30 p.m., on December 3, 2002 from 8:30 a.m. until 5:30 p.m., and on December 4, 2002 from 8:30 a.m. until approximately 12 p.m. at the Ritz Carlton Hotel at Pentagon City, 1250 South Hayes Street, Arlington, Virginia 22202. You may call the hotel on (703) 415-5000 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, the Executive Director of the National Advisory Committee on Institutional Quality and Integrity, if you have questions about the meeting. You may contact her at the U.S. Department of Education, room 7007, MS 7592, 1990 K St., NW, Washington, DC 20006, telephone: (202) 219-7009, fax: (202) 219-7008, e-mail: Bonnie.LeBold@ed.gov. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition, requested an expansion of scope, or submitted interim reports. The agenda will also include the review of a Federal institution that has requested degree-granting authority for a master's program. The agencies listed below, which were tentatively scheduled for review during the National Advisory Committee's December 2002 meeting, will be postponed for review until a future meeting.

Petitions for Initial Recognition

• Commission on English Language Program Accreditation (Requested scope of recognition: The accreditation of postsecondary English language programs and institutions in the United States)

• Teacher Education Accreditation Council (Requested scope of recognition: The accreditation throughout the United States of professional education programs in institutions offering baccalaureate and graduate degrees for the preparation of teachers K-12)

Any third-party written comments regarding these agencies that were received by September 9, 2002, in accordance with the Federal Register notice published on July 24, 2002, will become part of the official record. Those comments will be considered by the National Advisory Committee when it reviews the agency's petition for initial recognition at a future meeting. Another opportunity to provide written comments on the agency prior to that meeting will be announced in a Federal Register notice requesting written comments.

The agency listed below, originally scheduled for review at the National Advisory Committee's December 2002 meeting, will not be reviewed for the reason specified.

Petition for Renewal of Recognition

• Utah State Board for Applied Technology Education

This agency, because of recent State legislative changes, is not seeking renewal of recognition.

What Agencies Will the Advisory Committee Review at the Meeting?

The Advisory Committee will review the following agencies during its December 2-4, 2002 meeting.

Nationally Recognized Accrediting Agencies

Petitions for Renewal of Recognition

1. Accrediting Council for Continuing Education and Training (Current scope of recognition: The accreditation of institutions of higher education throughout the United States that offer non-collegiate continuing education programs and those that offer occupational associate degree programs.) (Requested scope of recognition: The accreditation of institutions of higher education throughout the United States that offer non-collegiate continuing education programs and those that offer occupational associate degree programs, including programs offered via distance education.)

2. American Optometric Association, Accreditation Council on Optometric Education (Current and Requested scope of recognition: The accreditation in the United States of professional optometric degree programs, optometric technician (associate degree) programs, and optometric residency programs and for the preaccreditation categories of Preliminary Approval and Reasonable Assurance for professional optometric degree programs and Candidacy Pending for optometric residency programs in Veterans' Administration facilities.)

3. American Speech-Language-Hearing Association, Council on Academic Accreditation (Current scope of recognition: The accreditation and preaccreditation (Candidacy status) throughout the United States of Master's and doctoral-level degree programs in speech-language pathology and/or audiology.) (Requested scope of recognition: The accreditation and preaccreditation (“Accreditation Candidate”) throughout the United States of entry-level graduate education programs at the master's or doctoral level leading to the first professional or academic degree in audiology and/or speech-language pathology and the accreditation of these programs offered via distance education.)

4. Midwifery Education Accreditation Council (Current scope of recognition: The accreditation throughout the United States of direct-entry midwifery educational institutions and programs conferring degrees and certificates.) (Requested scope of recognition: The preaccreditation and accreditation throughout the United States of direct-entry midwifery educational institutions and programs conferring degrees and certificates, including the accreditation of programs offered via distance education.)

5. National Association of Schools of Art and Design, Commission on Accreditation (Current scope of recognition: The accreditation throughout the United States of institutions and units within institutions offering degree-granting and non-degree-granting programs in art and design and art and design-related disciplines.) (Requested scope of recognition: The accreditation throughout the United States of institutions and units within institutions offering degree-granting and non-degree-granting programs in art and design and art and design-related disciplines, including programs offered via distance education.)

6. National Association of Schools of Dance, Commission on Accreditation (Current scope of recognition: The accreditation throughout the United States of institutions and units within institutions offering degree-granting and non-degree-granting programs in dance and dance-related disciplines.) (Requested scope of recognition: The accreditation throughout the United States of institutions and units within institutions offering degree-granting and non-degree-granting programs in dance and dance-related disciplines, including programs offered via distance education.)

7. National Association of Schools of Music, Commission on Accreditation, Commission on Non-Degree-Granting Accreditation, Commission on Community/Junior College Accreditation (Current scope of recognition: The accreditation throughout the United States of institutions and units within institutions offering degree-granting and non-degree-granting programs in music and music-related disciplines, including community/junior colleges and independent degree-granting and non-degree-granting institutions.) (Requested scope of recognition: The accreditation throughout the United States of institutions, including community/junior colleges and independent degree-granting and non-degree-granting institutions, and units within institutions offering degree-granting and non-degree-granting programs in music and music-related disciplines, including programs offered via distance education.)

8. National Association of Schools of Theatre, Commission on Accreditation (Current scope of recognition: The accreditation throughout the United States of institutions and units within institutions offering degree-granting and non-degree-granting programs in theatre and theatre-related disciplines.) (Requested scope of recognition: The accreditation throughout the United States of institutions and units within institutions offering degree-granting and non-degree-granting programs in theatre and theatre-related disciplines, including programs offered via distance education.)

9. New England Association of Schools and Colleges, Commission on Institutions of Higher Education (Current scope of recognition: The accreditation and preaccreditation (“Candidacy status”) of institutions of higher education in Connecticut, Maine, Massachusetts, New Hampshire, Rhode Island, and Vermont that award bachelor's, master's, and/or doctoral degrees and associate degree-granting institutions in those states that include degrees in liberal arts or general studies among their offerings. This recognition extends to the Board of Trustees of the Association jointly with the Commission for decisions involving preaccreditation, initial accreditation, and adverse actions.) (Requested scope of recognition: The accreditation and preaccreditation (“Candidacy status”) of institutions of higher education in Connecticut, Maine, Massachusetts, New Hampshire, Rhode Island, and Vermont that award bachelor's, master's, and/or doctoral degrees and associate degree-granting institutions in those states that include degrees in liberal arts or general studies among their offerings, and the accreditation of programs offered via distance education within these institutions. This recognition extends to the Board of Trustees of the Association jointly with the Commission for decisions involving preaccreditation, initial accreditation, and adverse actions.)

10. New England Association of Schools and Colleges, Commission on Technical and Career Institutions (Current scope of recognition: The accreditation and preaccreditation (“Candidate status”) of secondary institutions with vocational-technical programs at the 13th and 14th grade level, postsecondary institutions, and institutions of higher education that provide primarily vocational/technical education at the certificate, associate, and baccalaureate degree levels in Connecticut, Maine, Massachusetts, New Hampshire, Rhode Island, and Vermont. This recognition extends to the Board of Trustees of the Association jointly with the Commission for decisions involving preaccreditation, initial accreditation, and adverse actions.) (Requested scope of recognition: The accreditation and preaccreditation (“Candidate status”) of secondary institutions with vocational-technical programs at the 13th and 14th grade level, postsecondary institutions, and institutions of higher education that provide primarily vocational/technical education at the certificate, associate, and baccalaureate degree levels in Connecticut, Maine, Massachusetts, New Hampshire, Rhode Island, and Vermont, and the accreditation of programs offered via distance education within these institutions. This recognition extends to the Board of Trustees of the Association jointly with the Commission for decisions involving preaccreditation, initial accreditation, and adverse actions.)

11. North Central Association of Colleges and Schools, The Higher Learning Commission (Current scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, Wyoming, including schools of the Navajo Nation.) (Requested scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, Wyoming, including schools of the Navajo Nation, and the accreditation of programs offered via distance education within these institutions.)

12. Northwest Association of Schools and of Colleges and Universities, Commission on Colleges and Universities (Current scope of recognition: The accreditation and preaccreditation (“Candidacy status”) of postsecondary educational institutions in Alaska, Idaho, Montana, Nevada, Oregon, Utah, and Washington.) (Requested scope of recognition: The accreditation and preaccreditation (“Candidacy status”) of postsecondary educational institutions in Alaska, Idaho, Montana, Nevada, Oregon, Utah, and Washington, and the accreditation of programs offered via distance education within these institutions.)

13. Western Association of Schools and Colleges, Accrediting Commission for Community and Junior Colleges (Current scope of recognition: The accreditation and preaccreditation (“Candidate for Accreditation”) of community and junior colleges located in California, Hawaii, the United States territories of Guam and American Samoa, the Republic of Palau, the Federated States of Micronesia, the Commonwealth of the Northern Mariana Islands, and the Republic of the Marshall Islands.) (Requested scope of recognition: The accreditation and preaccreditation (“Candidate for Accreditation”) of community and junior colleges located in California, Hawaii, the United States territories of Guam and American Samoa, the Republic of Palau, the Federated States of Micronesia, the Commonwealth of the Northern Mariana Islands, and the Republic of the Marshall Islands, and the accreditation of programs offered via distance education at these colleges.)

Petition for an Expansion of Scope

1. National Accrediting Commission of Cosmetology Arts and Sciences (Current scope of recognition: The accreditation of postsecondary schools and departments of cosmetology arts and sciences.) (Requested scope of recognition: The accreditation throughout the United States of postsecondary schools and departments of cosmetology arts and sciences and massage therapy.)

Interim Reports (An interim report is a follow-up report on an accrediting agency's compliance with specific criteria for recognition that was requested by the Secretary when the Secretary granted renewed recognition to the agency.)

1. Accrediting Council for Independent Colleges and Schools

2. American College of Nurse-Midwives, Division of Accreditation

3. American Council on Pharmaceutical Education

4. Commission on Opticianry Accreditation

5. Joint Review Committee on Education in Radiologic Technology

6. Joint Review Committee on Educational Programs in Nuclear Medicine Technology

7. Western Association of Schools and Colleges, Accrediting Commission for Senior Colleges and Universities

State Agencies Recognized for the Approval of Public Postsecondary Vocational Education

Petition for Renewal of Recognition

1. Oklahoma Board of Career and Technology Education (Current scope of recognition: The approval of public postsecondary vocational education offered at institutions in the State of Oklahoma that are not under the jurisdiction of the Oklahoma State Regents for Higher Education.)

State Agencies Recognized for the Approval of Nurse Education

Petition for Renewal of Recognition

1. Iowa Board of Nursing.

2. Maryland Board of Nursing.

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. U.S. Marine Corps University, Quantico, VA (request to award a master's degree of Operational Studies).

Who Can Make Third-Party Oral Presentations at this Meeting?

We invite you to make a third-party oral presentation before the National Advisory Committee concerning the recognition of any agency published in this notice.

How Do I Request to Make an Oral Presentation?

You must submit a written request to make an oral presentation concerning an agency listed in this notice to the contact person so that the request is received via mail, fax, or e-mail no later than November 8, 2002. Your request (no more than 6 pages maximum) must include:

• The names, addresses, phone numbers, and fax numbers of all persons seeking an appearance,

• The organization they represent, and

• A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the November 8, 2002 deadline will not be distributed to the Advisory Committee for their consideration. Individuals making oral presentations may not distribute written materials at the meeting.

If I Cannot Attend the Meeting, Can I Submit Written Comments Regarding an Accrediting Agency in Lieu of Making an Oral Presentation?

This notice requests third-party oral testimony, not written comment. A request for written comments on agencies that are being reviewed during this meeting, with the exception of the National Accrediting Commission of Cosmetology Arts and Sciences, was published in the Federal Register on July 24, 2002. A request for written comments on the petition for an expansion of scope submitted by the National Accrediting Commission of Cosmetology Arts and Sciences will be published in the Federal Register in the near future. The Advisory Committee will receive and consider only written comments submitted by the applicable deadlines specified in the Federal Register notices referenced above.

How Do I Request to Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before or during the meeting.

How May I Obtain Access to the Records of the Meeting?

We will record the meeting and make a transcript available for public inspection at the U.S. Department of Education, 1990 K St., NW, Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Authority: 5 U.S.C. Appendix 2.

Dated: September 26, 2002.
Sally L. Stroup,
Assistant Secretary for Postsecondary Education.

[FR Doc. 02-25210 Filed 10-3-02; 8:45 am]

BILLING CODE 4000-01-P